DEPARTMENT OF COMMERCE

International Trade Administration

[C-570-123]

Certain Corrosion Inhibitors From the People's Republic of China: Preliminary Results and Partial Rescission of Countervailing Duty Administrative Review; 2023

AGENCY: Enforcement and Compliance, International Trade Administration, Department of Commerce.

SUMMARY: The U.S. Department of Commerce (Commerce) preliminarily determines that countervailable subsidies were provided to producers and exporters of certain corrosion inhibitors (corrosion inhibitors) from the People's Republic of China (China). The period of review (POR) is January 1, 2023, through December 31, 2023. In addition, Commerce is rescinding this review, in part, with respect to five companies. Interested parties are invited to comment on these preliminary results.

DATES: Applicable July 11, 2025.

FOR FURTHER INFORMATION CONTACT: Mary Kolberg or Theodore Pearson, AD/CVD Operations, Office I, Enforcement and Compliance, International Trade Administration, U.S. Department of Commerce, 1401 Constitution Avenue NW, Washington, DC 20230; telephone: (202) 482-1785 or (202) 482-2631, respectively.

SUPPLEMENTARY INFORMATION:

Background

On May 8, 2024, Commerce published in the Federal Register the notice of initiation ¹ of an administrative review of the Order.² On June 17, 2024, Commerce selected Anhui Trust Chem Co., Ltd. (ATC) and Nantong Botao Chemical Co., Ltd. (Botao) for individual examination as the mandatory respondents in this review.³ On July 22, 2024, Commerce tolled certain deadlines in this administrative review by seven days.⁴ On December 2, 2024, Commerce extended the deadline for the preliminary results of this review by 120 days, until April 7, 2025.⁵ On December 9, 2024, Commerce tolled certain deadlines in this administrative proceeding for an additional 90 days.⁶ The deadline for the preliminary results is now July 7, 2025.

¹ See Initiation of Antidumping and Countervailing Duty Administrative Reviews, 89 FR 38867 (May 8, 2024).

² See Certain Corrosion Inhibitors from the People's Republic of China: Antidumping Duty and Countervailing Duty Orders, 86 FR 14869 (March 19, 2021) (Order).

³ See Memorandum, “Certain Corrosion Inhibitors from the People's Republic of China: Respondent Selection,” dated June 17, 2024.

⁴ See Memorandum, “Tolling of Deadlines for Antidumping and Countervailing Duty Proceedings,” dated July 22, 2024.

⁵ See Memorandum, “Extension of Deadline for Preliminary Results of Countervailing Duty Administrative Review; 2023,” dated December 2, 2024.

⁶ See Memorandum, “Tolling Deadlines for Antidumping and Countervailing Duty Proceedings,” dated December 9, 2024.

For a complete description of the events that followed the initiation of this review, see the Preliminary Decision Memorandum.⁷ A list of topics included in the Preliminary Decision Memorandum is provided as the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of the Administrative Review of the Countervailing Duty Order on Certain Corrosion Inhibitors from the People's Republic of China; 2023,” dated concurrently with, and hereby adopted by, this notice (Preliminary Decision Memorandum).

Scope of the Order

The product covered by the Order is corrosion inhibitors from China. For a complete description of the scope of the Order, see the Preliminary Decision Memorandum.

Methodology

Commerce is conducting this administrative review in accordance with 751(a)(1)(A) of the Tariff Act of 1930, as amended (the Act). For each of the subsidy programs found countervailable, Commerce preliminarily determines that there is a subsidy, i.e., a financial contribution by an “authority” that gives rise to a benefit to the recipient, and that the subsidy is specific.⁸ For a full description of the methodology underlying our conclusions, including our reliance, in part, on adverse facts available, pursuant to sections 776(a) and (b) of the Act, see the Preliminary Decision Memorandum.

⁸ See sections 771(5)(B) and (D) of the Act regarding financial contribution; section 771(5)(E) of the Act regarding benefit; and section 771(5A) of the Act regarding specificity.

Partial Rescission of Administrative Review

Pursuant to 19 CFR 351.213(d)(1), Commerce will rescind an administrative review, in whole or in part, if all parties that requested the review withdraw their requests within 90 days of the date of publication of the notice of initiation. Commerce received a timely-filed withdrawal of review request from Jiangyin Delian Chemical Co., Ltd. Because the withdrawal of review request was timely filed, and no other parties requested a review of this company, we are rescinding this review of the Order with respect to this company, in accordance with 19 CFR 351.213(d)(1).

Pursuant to 19 CFR 351.213(d)(3), Commerce will rescind an administrative review when there are no reviewable suspended entries. Based on our analysis of U.S. Customs and Border Protection (CBP) information, we preliminarily determine that (1) Relic Chemicals; (2) Sagar Specialty Chemicals Pvt., Ltd.; (3) Vcare Medicines; and (4) Yasho Industries Pvt. Ltd. had no entries of subject merchandise during the POR. On October 28, 2024, we notified parties of our intent to rescind this administrative review with respect to the four companies which had no reviewable suspended entries and invited comments.⁹ No interested party submitted comments. Therefore, for these four companies, because no reviewable suspended entries exist during the POR, we are rescinding this review of the Order, in accordance with 19 CFR 351.213(d)(3). For further information, see the Preliminary Decision Memorandum.

⁹ See Memorandum, “Intent to Rescind Review, in Part,” dated October 28, 2024.

Rate for Non-Selected Companies Under Review

There are four companies for which a review was requested, which had reviewable entries, and which were not selected as mandatory respondents or found to be cross-owned with a mandatory respondent. These four companies are: (1) Connect Chemicals China Co., Ltd.; (2) Connect Chemicals GMBH; (3) Gold Chemical Limited; and (4) Kanghua Chemical Co., Ltd. The Act and Commerce's regulations do not address the establishment of a rate to apply to companies not selected for individual examination when Commerce limits its examination in an administrative review pursuant to section 777A(e)(2) of the Act. However, Commerce normally determines the rates for non-selected companies in reviews in a manner that is consistent with section 705(c)(5) of the Act, which provides instructions for calculating the all-others rate in an investigation. Section 705(c)(5)(A)(i) of the Act instructs Commerce, as a general rule, to calculate an all-others rate equal to the weighted average of the countervailable subsidy rates established for exporters and/or producers individually examined, excluding any rates that are zero, de minimis, or based entirely on facts available.

In this administrative review, Commerce calculated preliminary individual countervailable subsidy rates for ATC and Botao that are not zero, de minimis, or based entirely on facts otherwise available. Therefore, we are applying to the non-selected companies the average of the net subsidy rates calculated for ATC and Botao, which we calculated using publicly ranged sales data.¹⁰ This methodology to establish the rate for the non-selected companies uses section 705(c)(5)(A) of the Act, which governs the calculation of the all-others rate in an investigation, as guidance. For further information on the calculation of the non-selected respondent rate, see the Preliminary Decision Memorandum.

¹⁰ With two respondents under examination, Commerce normally calculates: (A) a weighted-average of the estimated subsidy rates calculated for the examined respondents; (B) a simple average of the estimated subsidy rates calculated for the examined respondents; and (C) a weighted-average of the estimated subsidy rates calculated for the examined respondents using each company's publicly-ranged U.S. sale quantities for the merchandise under consideration. Commerce then compares (B) and (C) to (A) and selects the rate closest to (A) as the most appropriate rate for all other producers and exporters. See, e.g., Ball Bearings and Parts Thereof from France, Germany, Italy, Japan, and the United Kingdom: Final Results of Antidumping Duty Administrative Reviews, Final Results of Changed-Circumstances Review, and Revocation of an Order in Part, 75 FR 53661, 53663 (September 1, 2010).

Preliminary Results of Review

Commerce preliminarily determines that the following net countervailable subsidy rates exist for the period January 1, 2023, through December 31, 2023:

Company | Subsidy rate (percent ad valorem)
Anhui Trust Chem Co., Ltd.¹¹ | 44.65
Nantong Botao Chemical Co., Ltd.¹² | 44.06
Review-Specific Average Rate Applicable to the Following Companies
Connect Chemicals China Co., Ltd | 44.36
Connect Chemicals GMBH | 44.36
Gold Chemical Limited | 44.36
Kanghua Chemical Co., Ltd ¹³ | 44.36

Disclosure

¹¹ As discussed in the Preliminary Decision Memorandum, Commerce has found the following companies to be cross-owned with ATC: Nanjing Trust Chem Col, Ltd. and Jiangsu Trust Chem Co., Ltd.

¹² As discussed in the Preliminary Decision Memorandum, Commerce has found the following companies to be cross-owned with Botao: Rugao Connect Chemical Co., Ltd.; Rugao Jinling Chemical Co., Ltd., and Nantong Yutu Group Co., Ltd.

¹³ Formerly known as Nantong Kanghua Chemical Co., Ltd. See Certain Corrosion Inhibitors from the People's Republic of China: Notice of Final Results of Antidumping Duty Changed Circumstances Review, 88 FR 1357 (January 10, 2023).

We intend to disclose the calculations and analysis performed for these preliminary results to interested parties within five days of any public announcement or, if there is no public announcement, within five days of the date of publication of this notice, in accordance with 19 FR 351.224(b).

Verification

On August 16, 2024, the petitioner ¹⁴ requested that Commerce conduct verification of ATC and Botao in this review.¹⁵ Accordingly, as provided in section 782(i)(3) of the Act, Commerce intends to verify certain information relied upon in the final results of review.

¹⁴ The petitioner is Wincom Inc.

¹⁵ See Petitioner's Letter, “Request for Verification,” dated August 16, 2024.

Public Comment

Interested parties will be notified of the timeline for the submission of case briefs and written comments at a later date. Rebuttal briefs, limited to issues raised in the case briefs, may be filed not later than five days after the date for filing case briefs.¹⁶ Parties who submit case briefs or rebuttal briefs in this proceeding are encouraged to submit with each argument: (1) a statement of the issue; and (2) a table of authorities.¹⁷ All briefs must be filed electronically using ACCESS and must be received successfully in its entirety in ACCESS by 5:00 p.m. Eastern Time on the established deadline.

¹⁶ See 19 CFR 351.309(d); see also Administrative Protective Order, Service, and Other Procedures in Antidumping and Countervailing Duty Proceedings, 88 FR 67069, 67077 (September 29, 2023) (APO and Service Final Rule).

¹⁷ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁸ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁹

¹⁸ We use the term “issue” here to describe an argument that Commerce would normally address in a comment of the Issues and Decision Memorandum.

¹⁹ See Administrative Protective Order, Service, and Other Procedures in Antidumping and Countervailing Duty Proceedings, 88 FR 67069, 67077 (September 29, 2023).

Pursuant to 19 CFR 351.310(c), interested parties who wish to request a hearing, limited to issues raised in the case and rebuttal briefs, must submit a written request to the Assistant Secretary for Enforcement and Compliance, filed electronically via ACCESS. An electronically filed document must be received successfully in its entirety by Commerce's electronic records system, ACCESS, by 5:00 p.m. Eastern Time within 30 days after the date of publication of this notice.²⁰ Requests should contain: (1) the party's name, address, and telephone number; (2) the number of participants and whether any participant is a foreign national; and (3) a list of issues to be discussed. If a request for a hearing is made, we will inform parties of the scheduled date and time for the hearing.

²⁰ See 19 CFR 351.310(c).

Cash Deposit Requirements

In accordance with section 751(a)(2)(C) of the Act, Commerce intends to instruct CBP to collect cash deposits of estimated countervailing duties in the amount indicated above with regard to shipments of subject merchandise entered, or withdrawn from warehouse, for consumption on or after the date of publication of the final results of this review. If the rate calculated in the final results is zero or de minimis, no cash deposit will be required on shipments of the subject merchandise entered or withdrawn from warehouse, for consumption on or after the date of publication of this review.

For all non-reviewed firms, we will instruct CBP to continue to collect cash deposits of estimated countervailing duties at the most recent company-specific or all-others rate applicable to the company, as appropriate. These cash deposit instructions, when imposed, shall remain in effect until further notice.

Assessment Rates

In accordance with 19 CFR 351.221(b)(4)(i), we preliminarily assigned subsidy rates in the amounts shown above for the producers/exporters shown above. Consistent with section 751(a)(1) of the Act and 19 CFR 351.212(b)(2), upon issuance of the final results, Commerce shall determine, and U.S. Customs and Border Protection (CBP) shall assess, countervailing duties on all appropriate entries covered by this review.

For the companies for which the review is being rescinded with these preliminary results, Commerce will instruct CBP to assess countervailing duties on all appropriate entries at a rate equal to the cash deposit of estimated countervailing duties required at the time of entry, or withdrawal from warehouse, for consumption, during the period January 1, 2023, through December 31, 2023, in accordance with 19 CFR 351.212(c)(1)(i). Commerce intends to issue rescission instructions to CBP no earlier than 35 days after the date of publication of this rescission notice in the Federal Register.

For the companies remaining in the review, Commerce will instruct CBP to assess countervailing duties on all appropriate entries at the subsidy rates calculated in the final results of this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Final Results of Review

Unless the deadline is extended, we intend to issue the final results of this administrative review, which will include the results of our analysis of the issues raised in the case briefs, within 120 days of publication of these preliminary results in the Federal Register, pursuant to section 751(a)(3)(A) of the Act and 19 CFR 351.213(h).

Notification to Interested Parties

We are issuing and publishing these preliminary results in accordance with sections 751(a)(1) and 777(i)(1) of the Act, and 19 CFR 351.213 and 351.221(b)(4).

Dated: July 7, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Partial Rescission of Administrative Review

V. Non-Selected Companies Under Review

VI. Diversification of China's Economy

VII. Use of Facts Otherwise Available and Application of Adverse Inference

VIII. Subsidies Valuation

IX. Interest Rate, Discount Rate, Input, Electricity, and Land Benchmarks

X. Analysis of Programs

XI. Recommendation

[FR Doc. 2025-12974 Filed 7-10-25; 8:45 am]

BILLING CODE 3510-DS-P